DEPARTMENT OF HOMELAND SECURITY

Federal Emergency Management Agency

[Docket ID FEMA-2014-0022]

Technical Mapping Advisory Council; Meeting; Correction

AGENCY: Federal Emergency Management Agency, Department of Homeland Security.

ACTION: Notice of open Federal Advisory Committee meeting; correction.

SUMMARY: On August 28, 2024, FEMA published in the Federal Register a notice announcing that the Technical Mapping Advisory Council (TMAC) will hold a virtual meeting on Tuesday, November 19, 2024, that will be open to the public via a Microsoft Teams Video Communications link. This document provides a correction to information provided in that notice.

DATES: The TMAC will meet on Tuesday, November 19, 2024, from 8 a.m. to 5 p.m. Eastern Time (ET). Please note that the meeting will close early if the TMAC has completed its business.

ADDRESSES: The meeting will be held virtually using the following Microsoft Teams Video Communications link (https://tinyurl.com/2c5qxkps). Members of the public who wish to attend the virtual meeting must register in advance by sending an email to FEMA-TMAC@fema.dhs.gov (Attn: Brian Koper) by 5 p.m. ET on Thursday, November 14, 2024.

To facilitate public participation, members of the public are invited to provide written comments on the issues to be considered by the TMAC. Associated meeting materials will be available upon request on Friday, November 15, 2024. To receive a copy of any relevant materials, please send the request to: FEMA-TMAC@fema.dhs.gov (Attn: Brian Koper). Written comments to be considered by the committee at the time of the meeting must be submitted and received by Thursday, November 14, 2024, 5 p.m. ET identified by Docket ID FEMA-2014-0022, and submitted by the following methods:

• Federal eRulemaking Portal: https://www.regulations.gov. Follow the instructions for submitting comments.

• Email: Address the email to FEMA-TMAC@fema.dhs.gov. Include the docket number in the subject line of the message. Include name and contact information in the body of the email.

Instructions: All submissions received must include the words “Federal Emergency Management Agency” and the docket number for this action. Comments received will be posted without alteration at http://www.regulations.gov, including any personal information provided. You may wish to review the Privacy and Security Notice via a link on the homepage of http://www.regulations.gov.

Docket: For docket access to read background documents or comments received by the TMAC, go to https://www.regulations.gov and search for the Docket ID FEMA-2014-0022.

A public comment period will be held on Tuesday, November 19, 2024, from 3:30 p.m. to 4 p.m. ET. The public comment period will not exceed 30 minutes. Please note that the public comment period may end before the time indicated, following the last call for comments. Contact the individual listed below to register as a speaker by Thursday, November 14, 2024, 5 p.m. ET. Please be prepared to submit a written version of your public comment by Monday, November 18, 2024, 5 p.m. ET.

FEMA is committed to ensuring all participants have equal access regardless of disability status. If you require reasonable accommodation to fully participate due to a disability, please contact the individual listed in the FOR FURTHER INFORMATION CONTACT caption as soon as possible.

FOR FURTHER INFORMATION CONTACT: Brian Koper, Designated Federal Officer for the TMAC, FEMA, 400 C St. SW, Washington, DC 20472, telephone 202-646-3085, and email brian.koper@fema.dhs.gov. The TMAC website is: https://www.fema.gov/flood-maps/guidance-partners/technical-mapping-advisory-council.

SUPPLEMENTARY INFORMATION:

Correction

In FR Doc. 2024-19296, beginning on page 68918 in the Federal Register of Wednesday, August 28, 2024, the following correction is made:

On page 68918, in the third column, in the first paragraph under ADDRESSES, the Microsoft Teams Video Communications link “https://tinyurl.com/44k78fd5” is corrected to read “https://tinyurl/com/2c5qxkps”.

Nicholas A. Shufro,
Assistant Administrator (Acting), Risk Analysis, Planning & Information Directorate Resilience, FEMA.

[FR Doc. 2024-25206 Filed 10-30-24; 8:45 am]

BILLING CODE 9110-12-P